DEPARTMENT OF LABOR

Employment and Training Administration

[NAFTA-06414]

Harris Welco (Excluding the Plastics Department) Division of J.W. Harris Co., Inc., Kings Mountain, North Carolina; Amended Certification Regarding Eligibility To Apply for NAFTA Transitional Adjustment Assistance

In accordance with Section 250(A), Subchaper D, Chaper 2, Title II, of the Trade Act of 1974 (19 U.S.C. 2273) the Department of Labor issued a Certification for NAFTA Transitional Adjustment Assistance on September 23, 2002 applicable to workers of Harris Welco, Division of J.W. Harris Co., Inc., Flux Department, Kings Mountain, North Carolina. The notice was published in the Federal Register on October 10, 2002 (67 FR 63160).

At the request of the company, the Department reviewed the certification for workers of the subject firm. Findings show that the Department limited its certification coverage to workers of the subject firm's Flux Department.

New information provided by the company show additional worker separations are scheduled and the remaining production of flux coated welding rods and support functions are being shifted to Mexico. The entire plant will close by the end of 2002.

Accordingly, the Department is amending the certification determination to properly reflect this matter.

It is the intent of the Department's certification to include all workers of Harris Welco who were adversely affected by a shift in production of flux coated welding rods to Mexico. Workers of the Plastics Department that was previously certified for NAFTA-TAA on June 24, 2002, remains in effect (NAFTA-6102).

The amended notice applicable to NAFTA—06414 is hereby issued as follows:

“All workers of Harris Welco, Division of J.W. Harris Co., Inc., excluding workers of the Plastics Department, Kings Mountain, North Carolina, who became totally or partially separated from employment on after July 26, 2001, through September 23, 2004, are eligible to apply for NAFTA-TAA under Section 250 of the Trade Act of 1974.”

Signed at Washington, DC this 23rd day of October, 2002.
Elliott S. Kushner,
Certifying Officer, Division of Trade Adjustment Assistance.

[FR Doc. 02-28389 Filed 11-6-02; 8:45 am]

BILLING CODE 4510-30-P